NUCLEAR REGULATORY COMMISSION

[Docket Nos. 50-334 and 50-412]

FirstEnergy Nuclear Operating Company (FENOC); Notice of Consideration of Issuance of Amendment to Facility Operating Licenses and Opportunity for a Hearing

The U.S. Nuclear Regulatory Commission (the Commission) is considering issuance of an amendment to Facility Operating License Nos. DPR-66 and NPF-73, issued to FENOC (the licensee), for operation of the Beaver Valley Power Station, Unit Nos. 1 and 2 (BVPS-1 and 2) located in Beaver County, Pennsylvania.

The proposed amendments requested by the licensee's February 25, 2005, license amendment request (LAR) would represent a full conversion from the current Technical Specifications (CTS) to a set of improved Technical Specifications (ITS) based on NUREG-1431, “Standard Technical Specifications (STS) for Westinghouse Plants,” Revision 2, dated April 2001. Some additional changes were proposed by the licensee to make the resulting ITS more consistent with Revision 3 of NUREG-1431 dated June 2004. The proposed amendments would also consolidate the BVPS-1 and 2 TSs into a single set of ITS applicable to both units. The attachment to the licensee's February 25, 2005, LAR consists of 10 volumes.

Volume 1 contains a copy of the licensee's transmittal letter, a detailed description of the contents and organization of the BVPS ITS conversion LAR, a status of Technical Specification Task Force (TSTF) changes to NUREG-1431, Revisions 2 and 3, a status of pending LARs, a list of beyond scope changes (BSIs), a CTS “roadmap” showing the disposition of each BVPS CTS and its relation to the proposed BVPS ITS in CTS order, an improved STS “roadmap” showing the correspondence of each improved STS to the proposed BVPS ITS and CTS in improved STS order, and the licensee's evaluation of environmental considerations for the proposed ITS conversion LAR.

NUREG-1431 has been developed by the Commission's staff through working groups composed of both NRC staff members and industry representatives, and has been endorsed by the NRC staff as part of an industry-wide initiative to standardize and improve the Technical Specifications (TSs) for nuclear power plants. As part of this submittal, the licensee has applied the criteria contained in the Commission's “Final Policy Statement on Technical Specification Improvements for Nuclear Power Reactors (Final Policy Statement),” published in the Federal Register on July 22, 1993 (58 FR 39132), to the CTS and using NUREG-1431 as a basis, proposed an ITS for BVPS-1 and 2. The criteria in the Final Policy Statement was subsequently added to Title 10 of the Code of Federal Regulations (10 CFR), Section 50.36, Technical specifications,” in a rule change that was published in the Federal Register on July 19, 1995 (60 FR 36953) and became effective on August 18, 1995.

In addition to the conversion, the licensee also proposed 30 BSIs where the proposed requirements are different from the CTS and the STS of NUREG-1431. These include 25 items identified by the licensee as BSIs and 5 additional items that consist of TSTF Traveler Items that were pending at the time of the licensee's application, and which the NRC staff has determined it will treat as BSIs. The BSIs are identified later in this notice.

This notice is based on the application dated February 25, 2005, and the information provided to the NRC through the BVPS-1 and 2 ITS Conversion Web page. To expedite its review of the application, the NRC staff issued its requests for additional information (RAIs) through the BVPS-1 and 2 ITS Conversion Web page and the licensee addressed the RAIs by providing responses on the Web page. Entry into the database is protected so that only licensee and NRC reviewers can enter information into the database to add RAIs (NRC) or providing responses to the RAIs (licensee); however, the public can enter the database to only read the questions asked and the responses provided. To be in compliance with the regulations for written communications for license amendment requests and to have the database on the BVPS-1 and 2 dockets before the amendments would be issued, the licensee will submit a copy of the database in a submittal to the NRC after there are no further RAIs and before the amendments would be issued. The public can access the database through the NRC Web site at http://www.nrc.gov by the following process: (1) Click on the tab labeled “Nuclear Reactors” on the NRC home page along the upper part of the Web page, (2) then click on the link to “Power Reactors” which is under “Regulated Reactors” on the left hand side of the Web page, (3) then click on the link to “Improved Standard Technical Specifications” which is on right hand side of the page, (4) then click on the link for “Improved Technical Specifications Data Base” at the bottom of the page under the heading “Conversion to Standard Technical Specifications,” and (5) finally, click on the link to “Beaver Valley Power Station Licensing Database,” near the middle of the Web page, to open the database. The RAIs and responses to RAIs are organized by ITS Sections 1.0, 2.0, 3.0, 3.1 through 3.9, 4.0, and 5.0, and/or the BSI numbers. For most listed ITS sections or BSIs, there is an RAI which can be read by clicking on the ITS section or BSI number. The licensee's responses are shown by a solid triangle adjacent to the ITS section or BSI number, and, to read the response, you click on the triangle. To page down through the ITS sections to the BSIs, click on “next” along the top of the page or on “previous” to return to the previous page.

The licensee has categorized the proposed changes to the CTS into five general groupings within the description of changes (DOC) section of the application. These groupings are characterized as administrative changes (i.e., ITS x.x, DOC A.xx), more restrictive changes (i.e., ITS x.x, DOC M.xx), relocated specifications (i.e., ITS x.x, DOC R.xx), removed detail changes (i.e., ITS x.x, DOC LA.xx), and less restrictive changes (i.e., ITS x.x, DOC L.xx). This is to say that the DOCs are numbered sequentially within each letter designator for each ITS Chapter, Section, or Specification, and the designations are A.xx for administrative changes, M.xx for more restrictive changes, R.xx for relocated specifications, LA.xx for removed detail changes, and L.xx for less restrictive changes. These changes to the requirements of the CTS do not result in operations that will alter assumptions relative to mitigation of an analyzed accident or transient event.

Administrative changes are those that involve restructuring, renumbering, rewording interpretation and complex rearranging of requirements and other changes not affecting technical content or substantially revising an operating requirement. The reformatting, renumbering and rewording process reflects the attributes of NUREG-1431 and does not involve technical changes to the CTS. The proposed changes include: (a) Providing the appropriate numbers, etc., for NUREG-1431 bracketed information (information that must be supplied on a plant-specific basis, and which may change from plant to plant), (b) identifying plant-specific wording for system names, etc., and (c) changing NUREG-1431 section wording to conform to existing licensee practices. Such changes are administrative in nature and do not impact initiators of analyzed events or assumed mitigation of accident or transient events.

More restrictive changes are those involving more stringent requirements compared to the CTS for operation of the facility. These more stringent requirements do not result in operation that will alter assumptions relative to the mitigation of an accident or transient event. The more restrictive requirements will not alter the operation of process variables, structures, systems, and components described in the safety analyses. For each requirement in the STS that is more restrictive than the CTS that the licensee proposes to adopt in the ITS, the licensee has provided an explanation as to why it has concluded that adopting the more restrictive requirement is desirable to ensure safe operation of the facility because of specific design features of the plant.

Relocated changes are those involving relocation of requirements and surveillances for structures, systems, components, or variables that do not meet the criteria for inclusion in TSs. Relocated changes are those CTS requirements that do not satisfy or fall within any of the four criteria specified in the 10 CFR 50.36(c)(2)(ii) and may be relocated to appropriate licensee-controlled documents.

The licensee's application of the screening criteria is described in the attachment to the licensee's February 25, 2005, letter, which is entitled, “A Description of the Beaver Valley Power Station, Improved Technical Specification (ITS) Conversion License Amendment Request (LAR),” in Attachment 1 of the submittal. The affected structures, systems, components or variables are not assumed to be initiators of analyzed events and are not assumed to mitigate accident or transient events. The requirements and surveillances for these affected structures, systems, components, or variables will be relocated from the TSs to administratively-controlled documents such as the quality assurance program, the UFSAR, the ITS Bases, the licensing requirements manual (LRM) that is incorporated by reference in the UFSAR, the core operating limits report, the offsite dose calculation manual, the inservice testing program, the inservice inspection program, or other licensee-controlled documents. Changes made to these documents will be made pursuant to 10 CFR 50.59 or other appropriate control mechanisms, and may be made without prior NRC review and approval. In addition, the affected structures, systems, components, or variables are addressed in existing surveillance procedures that are also controlled pursuant to 10 CFR 50.59.

Removed detail changes, are changes to the CTS that eliminate detail and relocate the detail to a licensee-controlled document. Typically, this involves details of system design and function, or procedural detail on methods of conducting a surveillance requirement (SR). These changes are supported, in aggregate, by a single generic no significant hazards consideration (NSHC). The generic type of removed detail change is identified in italics at the beginning of the DOC.

Less restrictive changes are those where CTS requirements are relaxed or eliminated, or new plant operational flexibility is provided. The more significant “less restrictive” requirements are justified on a case-by-case basis. When requirements have been shown to provide little or no safety benefit, their removal from the TSs may be appropriate. In most cases, relaxations previously granted to individual plants on a plant-specific basis were the result of (a) generic NRC actions, (b) new NRC staff positions that have evolved from technological advancements and operating experience, or (c) resolution of the Owners Groups' comments on the improved STSs. Generic relaxations contained in NUREG-1431 were reviewed by the NRC staff and found to be acceptable because they are consistent with current licensing practices and NRC regulations. The licensee's design is being reviewed to determine if the specific design basis and licensing basis are consistent with the technical basis for the model requirements in NUREG-1431, thus providing a basis for the ITS, or if relaxation of the requirements in the CTS is warranted based on the justification provided by the licensee.

These administrative, relocated, more restrictive, removed detail, and less restrictive changes to the requirements of the CTS do not result in operations that will alter assumptions relative to mitigation of an analyzed accident or transient event.

In addition to the proposed changes solely involving the conversion, there are also changes proposed that are different from the requirements in both the CTS and the STS NUREG-1431. The BSIs are listed below in which the first 25 were identified by the licensee and addressed in Enclosure 4 to its application. The remaining 5 BSIs were identified by the NRC staff and were originally categorized as pending TSTF items by the licensee. In some cases, the BSI is addressed as a justification for deviation (JFD) from the STS, and identified as ITS x.x, JFD x. These BSIs to the conversion, listed in the order of the applicable ITS specification or section, are as follows [note that the words below that are capitalized are terms that are defined in the ITS]:

1. BSIs-1 and 2, propose changes to the BVPS-1 analog Rod Position Indication (RPI) system. BVPS-2 uses a digital RPI system and the proposed change does not apply to BVPS-2. The proposed changes would modify the CTS 3.1.3.2 notes to apply the 1-hour thermal soak time to all power levels instead of only to power levels above 50%, and to apply the exception to the ? 12 step-requirement during rod insertion and withdrawal (provided by the Mode 2 footnote) to any time “during rod motion.” The CTS 3.1.3.1 notes would be moved directly to the ITS 3.1.4 limiting condition for operation (LCO) (ITS 3.1.4, DOC L.1, JFD 2, and ITS 3.1.7.1, DOC L.2, JFDs 2 and 5).

2. BSI-3 proposes changes to the improved STS time limit and power level specified in the note modifying SR 3.3.1.3. The proposed time limit would change from 1 to 7 days and the proposed power level would change from ≥15% rated thermal power (RTP) to ≥50% RTP. (ITS 3.3.1 and SR 3.3.1.3 note, DOC M.12, JFDs 4 and 6)

3. BSI-4 proposes changes to improved STS SR 3.3.1.6 (ITS SR 3.3.1.9) to change the time allowed to perform the surveillance from 24 hours after RTP is ≥50%, to 7 days. Additionally, the BSI proposes to change the requirement to perform SR 3.3.1.9 every 92 effective full-power days (EFPD) thereafter, to perform the surveillance “once per fuel cycle” (ITS 3.3.1, SR 3.3.1.9 note, DOC M.19, JFD 7).

4. BSI-5 proposes a change to ITS SR 3.3.4.2 frequency for verifying the operability of the Remote shutdown System control and transfer switches from 18 months to 36 months. CTS 3.3.3.5 currently does not have operability or SRs for these control and transfer switches (ITS 3.3.4, SR 3.3.4.2, DOC M.4, JFD 1).

5. BSI-6 proposes a change to the improved STS note that modifies the precision heat balance SR to require the surveillance to be performed within 30 days of reaching the specified power level vice within 24 hours of reaching the specified power level (CTS 4.2.5.2 and its note 2 do not contain a specified time limit in which to perform the heat balance) (ITS 3.4.1, SR 3.4.1.4 note, DOC M.1, JFD 1).

6. BSIs-7-11 propose revising the improved STS note for verifying reactor coolant pump (RCP) and residual heat removal (RHR) pump standby pump breaker alignment and power availability every 7 days (and within 24 hours after the pump is not in operation) to remove the requirement for performing the surveillance within 24 hours after the pump is not in operation and considering the SR to be met for a pump just removed from operation and to clarify that the starting time for the 7-day SR begins “when the pump is removed from operation” instead of when the pump “is not in operation.” The CTS SRs do not have a note containing the 24-hour requirement for the RCPs and RHR pumps (ITS SR 3.4.5.3, DOC L.3, JFD 2, SR 3.4.6.3, DOC L.4, JFD 2, SR 3.4.7.3, DOC L.5, JFD 4, SR 3.4.8.2, DOC L.4, JFD 3, and SR 3.5.9.2, DOC M.1, JFD 2).

7. BSI-12 proposes to change the improved STS 3.4.18, “Isolated Loop Startup,” LCO and SRs related to the isolated loop temperature to be more consistent with the BVPS safety analyses assumptions and CTS RCP start restrictions. The improved STS requires that the isolated loop temperature be no greater than 20° below the operating loop temperature before the cold leg isolation valve can be opened. The licensee proposes to change this requirement to, “the cold leg temperature must be ≥ the minimum reactor coolant system (RCS) temperature assumed in the analysis before the cold leg isolation valve can be opened.” In addition new temperature requirements are added similar to the temperature restrictions for starting an RCP in ITS 3.4.7, “RCS Loops-Mode 5” (ITS 3.4.18, DOC M.1, JFDs 1 and 2).

8. BSIs-13 and 14 propose to remove the valve isolation times from SR 3.7.2.1 for the main steam isolation valves (MSIVs), and SR 3.7.3.1 for the main feedwater isolation valves (MFIVs), main feedwater regulating valves and associated bypass valves and replace the times with a specific reference that the isolation time of each valve is “within limits.” The valve isolation times would be relocated to the LRM and future changes would be controlled under 10 CFR 50.59. The licensee states that this is consistent with the previously approved relocation of other valve response times such as for containment isolation valves. The CTS SR 4.7.1.5 for MSIVs would thus be changed; however, the licensee has no CTS for MFIVs (ITS SR 3.7.2.1, DOC LA.1, JFD 3, and ITS SR 3.7.3.1, DOC M.1, JFD 2).

9. BSIs-15-17 propose changes to the improved STS 3.7.7 and 3.7.8 to provide a new Action Condition C, rather than the application of LCO 3.0.3, for the case where 2 component cooling water (3.7.7) or 2 service water (3.7.8) trains are inoperable resulting in insufficient cooling capacity for decay heat removal in Mode 4 such that the plant cannot cool down to Mode 5 (ITS 3.7.7 and 3.7.8, DOC L.3, JFD 2).

10. BSI-18 proposes changes to ITS 3.7.9, Ultimate Heat Sink [UHS],” Action Condition B, such that the proposed Action does not include the improved STS upper and lower temperature limits, but will require more frequent monitoring of the UHS temperature when the single BVPS limit for each unit is exceeded rather than an immediate unit shutdown, and would require a unit shutdown when the UHS temperature averaged over the previous 24 hours exceeds the limit (ITS 3.7.9 Action A, DOC L.1, JFD 2).

11. BSI-19 proposes to modify the notes in improved STS SRs 3.8.1.2 and 3.8.1.3 to add the words “or based on operating experience,” to supplement the phrase “as recommended by the manufacturer” (ITS SR 3.8.1.2 and SR 3.8.1.3, DOC L.19, JFD 17).

12. BSI-20 proposes to modify improved STS SR 3.8.1.5 by changing the requirement to “Check for and remove accumulated water from each day tank [and engine mounted tank]” to “Check and remove water from each engine mounted tank.” A note has been added to indicate that this is applicable to BVPS-1 only (ITS SR 3.8.1.5.1, DOC L.18, JFD 10).

13. BSI-21 proposes a note to ITS SR 3.8.2.1 to address the surveillances (SRs 3.1.8.13 and 3.8.1.14) used to verify the capability of the automatic load sequencer function of the emergency diesel generators (EDGs). The note states that the load sequencer function SRs only include the verification of loads applicable (necessary for operability) in the shutdown modes of operation (Modes 5 and 6) addressed by ITS 3.8.2 (ITS SR 3.8.2.1 Note 2, DOC L.3, JFD 5).

14. BSI-22 proposes to revise improved STS SR 3.8.2.1 by the addition of Note 3. Proposed Note 3 to ITS SR 3.8.2.1 states, “SR 3.8.1.14 is only required to be met with the use of an actual or simulated loss of offsite power signal.” SR 3.8.1.14 verifies the response of the emergency bus and EDG to an engineered safety features (ESF) signal in conjunction with a loss of offsite power. The proposed note is intended to clarify that in the shutdown modes addressed by SR 3.8.2.1, there are no required ESF actuation signals. The ESF actuation instrumentation specified in ITS 3.3.2 is only required to be operable in Modes 1-4, and ITS 3.8.2, “AC Sources Shutdown,” is only applicable in Modes 5 and 6 (ITS SR 3.8.2.1 Note 3, DOC L.3, JFD 6).

15. BSI-23 proposes to revise improved STS SR 3.9.3.3 by making changes to ITS 3.9.3.c.2 intended to be consistent with the design and licensing basis for BVPS-1 and 2. The LCO requirement that specifies that each penetration providing direct access from the containment atmosphere to the outside atmosphere be capable of being closed by an OPERABLE Containment Purge and Exhaust Isolation System and its associated surveillance (SR 3.9.3.3) are made applicable to Unit 2 only, and a provision is added for Unit 1 only (ITS 3.9.3.c.3) that allows the Purge and Exhaust System penetrations to be open when the system air is exhausted to an OPERABLE Supplemental Leak Collection and Release System train (ITS 3.9.3.c.2, DOC L.1, JFD 3).

16. BSI-24 proposes to incorporate a note into ITS 3.9.5, “RHR and Coolant Circulation—Low Water Level,” and ITS 3.9.4, “RHR and Coolant Circulation—High Water Level.” NRC-approved TSTF-21 Revision 0, incorporated a Bases change to ITS 3.9.5 that provides an exception to the requirement for the RHR loop to be circulating reactor coolant to allow both RHR pumps to be aligned to the refueling water storage tank (RWST) to support filling or draining of the refueling cavity or for performance of required testing. This exception was incorporated into NUREG-1431, Revision 3. In a letter dated April 29, 1999, from W. D. Beckner, NRC, to J. Davis, Nuclear Energy Institute, the NRC recommended that TSTF-21, Revision 0 be revised to include an LCO exception note to remove the RHR loop from operation (i.e., from circulating coolant) to support cavity fill and drain or to support required testing. The licensee's note incorporates this NRC recommendation which was not incorporated into TSTF-21, Revision 0 or NUREG-1431, Revision 3 (ITS 3.9.4, LCO Note 3 and ITS 3.9.5, LCO Note 3, DOC L.4, JFD 3).

17. BSI-25 proposes to revise improved STS 5.5.4.b which states, “The provisions of SR 3.0.2 are applicable to the above required Frequencies [improved STS 5.5.4.a] for performing inservice testing activities.” The licensee states that the list in improved STS 5.5.4.a lists some of the test intervals referenced in the inservice testing requirements but is not a comprehensive list. The licensee proposes to revise ITS 5.5.4.b to state, “The provisions of SR 3.0.2 are applicable to the above required Frequencies and other normal and accelerated Frequencies specified in the Inservice Testing Program for performing inservice testing activities.” This would expand the applicability of SR 3.0.2 provisions to all inservice testing requirements intervals and not just those listed in ITS 5.5.4.a (ITS 5.5.4.b, DOC L.4, JFD 34).

18. BSI-26 proposes to incorporate pending TSTF-412, Revision 0, which would provide actions and clarify the operability status when one steam supply to a turbine driven auxiliary feedwater pump is inoperable.

19. BSI-27 proposes to incorporate pending TSTF-451-T, Revision 0, which would provide corrections to the battery monitoring and maintenance program (Section 5.0) and the Bases of SR 3.8.4.2 (Section 3.8).

20. BSI-28 proposes to incorporate pending TSTF-453-T, Revision 2, which would provide a new specification in Section 3.1 and revise existing requirements in Section 3.3 to more completely address a rod withdrawal from subcritical conditions (RWFS) event. The TSTF adds new boron concentration operating restrictions during conditions when the power range nuclear instrumentation may not be able to provide the necessary trip function to protect against an RWFS event.

21. BSI-29 proposes to incorporate pending TSTF-472-T, Revision 0, which corrects a Bases error introduced by implementation of NRC-approved TSTF-283 (approved in November 2000). This affects Section 3.8.

22. BSI-30 proposes to incorporate pending TSTF-482, Revision 0, which would provide editorial enhancements to the Bases for LCO 3.0.6.

Before issuance of the proposed license amendment, the Commission will have made findings required by the Atomic Energy Act of 1954, as amended (the Act), and the Commission's regulations.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's public document room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner/requestor in the proceeding, and how that interest may be affected by the results of the proceeding. The petition should specifically explain the reasons why intervention should be permitted with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

Nontimely requests and/or petitions and contentions will not be entertained absent a determination by the Commission or the presiding officer of the Atomic Safety and Licensing Board that the petition, request and/or the contentions should be granted based on a balancing of the factors specified in 10 CFR 2.309(a)(1)(i)-(viii).

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) E-mail addressed to the Office of the Secretary, U.S. Nuclear Regulatory Commission, HEARINGDOCKET@NRC.GOV; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to 301-415-3725 or by e-mail to OGCMailCenter@nrc.gov. A copy of the request for hearing and petition for leave to intervene should also be sent to David W. Jenkins, Attorney, FirstEnergy Corporation, Mail Stop A-GO-18, 76 South Main Street, Akron, OH 44308, attorney for the licensee.

If a request for a hearing is received, the Commission's staff may issue the amendment after it completes its technical review and prior to the completion of any required hearing if it publishes a further notice for public comment of its proposed finding of no significant hazards consideration in accordance with 10 CFR 50.91 and 50.92.

For further details with respect to this action, see the application for amendment dated February 25, 2005, which is available for public inspection at the Commission's PDR, located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 16th day of March 2006.
For the Nuclear Regulatory Commission.
Timothy G. Colburn,
Senior Project Manager, Plant Licensing Branch I-1, Division of Operating Reactor Licensing, Office of Nuclear Reactor Regulation.

[FR Doc. E6-4153 Filed 3-21-06; 8:45 am]

BILLING CODE 7590-01-P